ENVIRONMENTAL PROTECTION AGENCY

40 CFR Part 52

[EPA-R07-OAR-2017-0267; FRL-9970-98-Region 7]

Approval of Implementation Plans; State of Iowa; Elements of the Infrastructure SIP Requirements for the 2010 Sulfur Dioxide National Ambient Air Quality Standard (NAAQS); Withdrawal

AGENCY: Environmental Protection Agency (EPA).

ACTION: Withdrawal of direct final rule.

SUMMARY: Due to an adverse comment, the Environmental Protection Agency (EPA) is withdrawing the direct final rule for Approval of Implementation Plans; State of Iowa; Elements of the Infrastructure SIP Requirements for the 2010 Sulfur Dioxide National Ambient Air Quality Standard (NAAQS) published in the Federal Register on September 29, 2017. Infrastructure SIPs address the applicable requirements of Clean Air Act (CAA) section 110, which requires that each state adopt and submit a SIP for the implementation, maintenance, and enforcement of each new or revised NAAQS promulgated by the EPA. These SIPs are commonly referred to as “infrastructure” SIPs. The infrastructure requirements are designed to ensure that the structural components of each state's air quality management program are adequate to meet the state's responsibilities under the CAA.

DATES: As of November 17, 2017, the direct final rule published on September 29, 2017 (82 FR 45497), is withdrawn.

FOR FURTHER INFORMATION CONTACT: Heather Hamilton Environmental Protection Agency, Air Planning and Development Branch, 11201 Renner Boulevard, Lenexa, Kansas 66219 at 913-551-7039, or by email at hamilton.heather@epa.gov.

SUPPLEMENTARY INFORMATION: Due to an adverse comment, EPA is withdrawing the direct final rule to approve revisions to the Iowa State Implementation Plan (SIP). In the direct final rule published on September 29, 2017, (82 FR 45497), we stated that if we received adverse comment by October 30, 2017, the rule would be withdrawn and not take effect. EPA received an adverse comment. EPA will address the comment in a subsequent final action based upon the proposed action also published on September 29, 2017 (82 FR 45550). EPA will not institute a second comment period on this action.

List of Subjects in 40 CFR Part 52

Environmental protection, Air pollution control, Incorporation by reference, Intergovernmental relations, sulfur dioxide, Reporting and recordkeeping requirements.

Dated: November 8, 2017.
Cathy Stepp,
Acting Regional Administrator, Region 7.

PART 52—APPROVAL AND PROMULGATION OF IMPLEMENTATION PLANS

Accordingly, the direct final rule amending 40 CFR 52.820 published in the Federal Register on September 29, 2017 (82 FR 45497), is withdrawn.

[FR Doc. 2017-24903 Filed 11-16-17; 8:45 am]

BILLING CODE 6560-50-P